NUCLEAR REGULATORY COMMISSION

10 CFR Part 50

[NRC-2018-0291]

RIN 3150-AK23

American Society of Mechanical Engineers Code Cases and Update Frequency; Extension of Comment Period

AGENCY: Nuclear Regulatory Commission.

ACTION: Proposed rule; extension of comment period.

SUMMARY: On March 6, 2023, the U.S. Nuclear Regulatory Commission (NRC) solicited comments on proposed amendments to its regulations to incorporate by reference proposed revisions to three regulatory guides, which would approve new, revised, and reaffirmed code cases published by the American Society of Mechanical Engineers. In addition, the rulemaking proposed to extend the time periods required for licensees to update their codes of record. The public comment period was originally scheduled to close on May 5, 2023. The NRC has decided to extend the public comment period by an additional 42 days to June 16, 2023, to allow more time for members of the public to develop and submit their comments.

DATES: The due date of comments requested in the document published on March 6, 2023 (88 FR 13717) is extended. Comments should be filed no later than June 16, 2023. Comments received after this date will be considered, if it is practical to do so, but the Commission is able to ensure consideration only for comments received on or before this date.

ADDRESSES: You may submit comments by any of the following methods (unless the document published on March 6, 2023, describes a different method for submitting comments on a specific subject); however, the NRC encourages electronic comment submission through the Federal rulemaking website:

• Federal Rulemaking Website: Go to https://www.regulations.gov and search for Docket ID NRC-2018-0291. Address questions about NRC dockets to Dawn Forder; telephone: 301-415-3407; email: Dawn.Forder@nrc.gov. For technical questions contact the individuals listed in the FOR FURTHER INFORMATION CONTACT section of this document.

• Email comments to: Rulemaking.Comments@nrc.gov. If you do not receive an automatic email reply confirming receipt, then contact us at 301-415-1677.

• Fax comments to: Secretary, U.S. Nuclear Regulatory Commission at 301-415-1101.

• Mail comments to: Secretary, U.S. Nuclear Regulatory Commission, Washington, DC 20555-0001, ATTN: Rulemakings and Adjudications Staff.

• Hand deliver comments to: 11555 Rockville Pike, Rockville, Maryland 20852, between 7:30 a.m. and 4:15 p.m. eastern time, Federal workdays; telephone: 301-415-1677.

For additional direction on obtaining information and submitting comments, see “Obtaining Information and Submitting Comments” in the SUPPLEMENTARY INFORMATION section of this document.

FOR FURTHER INFORMATION CONTACT: Soly I. Soto Lugo, Office of Nuclear Material and Safeguards, telephone: 301-415-7528, email: Soly.Sotolugo@nrc.gov and Bruce Lin, Office of Nuclear Regulatory Research, telephone: 301-415-2446, email: Bruce.Lin@nrc.gov. Both are staff of the U.S. Nuclear Regulatory Commission, Washington, DC 20555-0001.

SUPPLEMENTARY INFORMATION:

I. Obtaining Information and Submitting Comments

A. Obtaining Information

Please refer to Docket ID NRC-2018-0291 when contacting the NRC about the availability of information for this action. You may obtain publicly available information related to this action by any of the following methods:

• Federal Rulemaking Website: Go to https://www.regulations.gov and search for Docket ID NRC-2018-0291.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The ADAMS accession number for each document referenced (if it is available in ADAMS) is provided the first time that it is mentioned in this document.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2018-0291 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

On March 6, 2023, the NRC solicited comments on proposed amendments to its regulations to incorporate by reference proposed revisions to three regulatory guides, which would approve new, revised, and reaffirmed code cases published by the American Society of Mechanical Engineers. In addition, the NRC requested comments on its proposal to extend the time periods required for licensees to update their codes of record. The public comment period was originally scheduled to close on May 5, 2023.

On April 19, 2023, the NRC received two public comments (ADAMS Accession Nos. ML23109A141 and ML23109A142) requesting that the comment period for the proposed rule be extended by an additional 1 to 2 months. The requesters expressed that American Society of Mechanical Engineers (ASME) Code Committee meetings are scheduled for May 2023, and that these ASME meetings would be beneficial to allow discussions of the proposed rule before submission of any further public comments.

The NRC seeks to ensure that the public has a reasonable opportunity to provide the NRC with comments on this proposed action. The NRC acknowledges that discussions at the ASME Code Committee meetings may assist in the development of comments. The NRC has decided to extend the public comment period on this document until June 16, 2023, to allow more time for members of the public to submit their comments.

The NRC may post materials related to this document, including public comments, on the Federal rulemaking website at https://www.regulations.gov under Docket ID NRC-2018-0291. In addition, the Federal rulemaking website allows members of the public to receive alerts when changes or additions occur in a docket folder. To subscribe: (1) navigate to the docket folder (NRC-2018-0291); (2) click the “Subscribe” link; and (3) enter an email address and click on the “Subscribe” link.

Dated: April 26, 2023.
For the Nuclear Regulatory Commission.
Andrea D. Veil,
Director, Office of Nuclear Reactor Regulation.

[FR Doc. 2023-09218 Filed 5-2-23; 8:45 am]

BILLING CODE 7590-01-P